DEPARTMENT OF THE INTERIOR

Bureau of Land Management

[22X.LLAZ920000 L13400000.KH0000]

Notice of Competitive Offer for Solar Energy Development on Public Lands in the State of Arizona

AGENCY: Bureau of Land Management, Interior.

ACTION: Notice of competitive offer.

SUMMARY: The Bureau of Land Management (BLM), Arizona State Office, Phoenix, Arizona, will accept competitive bids to lease public lands for solar energy projects on approximately 8,526 acres in the State of Arizona.

DATES: The BLM will hold a competitive live auction at 10:00 a.m. local time on December 8, 2021.

ADDRESSES: The auction will be held at: BLM Arizona State Office, 1 North Central Ave, #800, Phoenix, AZ 85004.

FOR FURTHER INFORMATION CONTACT: Derek Eysenbach, Project Manager, BLM Arizona State Office, by telephone: 602-417-9505 or email: deysenbach@blm.gov. People who use a telecommunications device for the deaf (TDD) may call the Federal Relay Service (FRS) at 1-800-877-8339 to contact Mr. Eysenbach during normal business hours. The FRS is available 24 hours a day, 7 days a week, to leave a message or question. You will receive a reply during normal business hours.

SUPPLEMENTARY INFORMATION: The BLM Arizona State Office has received interest to lease lands within each of its Solar Energy Zones (SEZ). The BLM will offer leases for solar energy development within the SEZs in accordance with the competitive process described in 43 CFR 2800, subpart 2809.

Based on the expressed interest, each SEZ is being offered in its entirety. The SEZs being offered for competitive solar lease sale are described as follows:

Gillespie Solar Energy Zone

Maricopa County, Arizona

The Gillespie SEZ consists of approximately 2,618 contiguous acres of public land, identified in the 2012 Final Programmatic Environmental Impact Statement for Solar Energy Development in Six Southwestern States (Solar Programmatic EIS) and subsequent Approved Resource Management Plan Amendments/Record of Decision (ROD) as suitable for utility-scale solar energy development. The Gillespie SEZ is managed by the BLM's Lower Sonoran Field Office. Detailed information on the Gillespie SEZ, including maps, completed resource studies, and recommended design features can be viewed and downloaded at: https://blmsolar.anl.gov/sez/az/gillespie/.

Brenda Solar Energy Zone

La Paz County, Arizona

The Brenda SEZ consists of approximately 3,348 contiguous acres of public land, identified in the 2012 Solar Programmatic EIS and ROD as suitable for utility-scale solar energy development. The Brenda SEZ is managed by the BLM's Lake Havasu Field Office. Detailed information on the Brenda SEZ, including maps, completed resource studies, groundwater modeling, and recommended design features can be viewed and downloaded at: https://blmsolar.anl.gov/sez/az/brenda/.

Agua Caliente Solar Energy Zone

Yuma County, Arizona

The Agua Caliente SEZ consists of approximately 2,560 acres of public land, split into two parcels surrounding an existing solar energy facility on private lands. Agua Caliente was identified in the 2013 Renewable Arizona: Restoration Design Energy Project Environmental Impact Statement and subsequent ROD as suitable for utility-scale solar energy development. The Agua Caliente SEZ is managed by the BLM's Yuma Field Office. Detailed information on the Agua Caliente SEZ, including maps, completed resource studies, and recommended design features can be viewed and downloaded at: https://blmsolar.anl.gov/sez/az/agua-caliente/.

As provided for in 43 CFR 2809.13(a), bidding will occur in an oral auction, conducted in-person. The auction will be open to the public with potential limitations based on room capacity and the event may be live-streamed. More information will be made available at https://go.usa.gov/xMXRG. Interested bidders are required to pre-register no later than one week prior to the scheduled auction to allow sufficient time for the BLM to verify qualifications. Qualified bidders must meet the requirements of 43 CFR 2803.10:

• An individual, association, corporation, partnership, or similar business entity, or a Federal agency or state, Tribal, or local government;

• Technically and financially able to construct, operate, maintain, and terminate the use of the public lands you are applying for; and

• Of legal age and authorized to do business in the state where the right-of-way (ROW) you seek is located.

Technical and financial capability may be demonstrated by:

• Providing documentation of any successful experience in construction, operation, and maintenance of a similar-sized solar facility on either public or non-public lands;

• Providing documentation on the availability of sufficient capitalization to carry out development, including the preliminary study stage of the project and the environmental review and clearance process; or

• Providing documentation of conditional commitments of Federal and other loan guarantees; confirmed power purchase agreements; engineering, procurement, and construction contracts; and supply contracts with credible third-party vendors for the manufacture or supply of key components for the project facilities.

Pre-registered bidders will be confirmed and assigned a bidder number before the auction commences. Complete details and frequently asked questions on the screening and bidding process can be found online at: https://go.usa.gov/xMXRG.

The BLM has determined a minimum acceptable bid for each SEZ. The minimum bid represents 10 percent of the rent value of the land for 1 year under the BLM's solar rental schedule and is based on the interests acquired by a lessee in the SEZ. The minimum bid also includes an administrative fee of approximately $2.42 per acre to cover the BLM's costs of preparing and conducting the competitive offer. Minimum bids for the three SEZs are: Gillespie—$80,511; Brenda—$30,728; and Agua Caliente—$78,728. The competitive offer will start at the minimum bid, and bidders may raise with subsequent bonus bids. The bidder with the highest total bid (minimum and bonus bid) at the close of the auction will be declared the successful bidder and will be offered a ROW lease within the SEZ subject to payment terms, outlined as follows.

If you are the successful bidder, payment of the minimum bid and at least 20 percent of the winning bonus bid must be submitted to the BLM Arizona State Office by the close of business on the day of the auction. Within 15 calendar days after the auction, you must pay the balance of the bonus bid and the first 12 months acreage rent to the respective BLM field office overseeing management of the SEZ. Any required payments must be submitted by personal check, cashier's check, certified check, ACH bank draft, or money order, or by other means deemed acceptable by the BLM, payable to the Department of the Interior—Bureau of Land Management.

The BLM will offer you a ROW lease if you are the successful bidder and you: (1) Satisfy the qualifications in 43 CFR 2803.10; (2) make the required payments listed earlier; and (3) do not have any trespass action pending against you for any activity on BLM-administered lands or have any unpaid debts owed to the Federal Government. The BLM will not offer a lease to the successful bidder and will keep all money that has been submitted if the successful bidder does not satisfy these requirements. In that event, the BLM may offer the lease to the next highest bidder; re-offer the lands through another competitive process; or make the lands available through the non-competitive application process found in 43 CFR 2803, 2804, and 2805.

The administrative fee portion of the minimum bid will be retained by the agency to recover administrative costs for conducting the competitive bid and related processes. The remainder of the minimum bid and bonus bid will be deposited with the U.S. Treasury. Neither amount will be returned or refunded to the successful bidder(s) under any circumstance.

If no bid is received for a SEZ, then no lease will be issued and the BLM may choose to make the lands available through the non-competitive application process found in 43 CFR 2803, 2804, and 2805, or by competitive process at a later date. Any lease issued will be subject to the terms and conditions specified in 43 CFR 2809.18, any additional requirements identified in the site-specific environmental review documentation, and the following project specific stipulations:

(1) The lessee will prepare the following management plans, if applicable, and submit them to the BLM as part of its plan of development (POD) for approval following the issuance of a lease for the Project and prior to the BLM issuing a Notice to Proceed (NTP) with construction:

• Bird and Bat Conservation Strategy;

• Decommissioning and Site Reclamation Plan;

• Dust Abatement Plan;

• Spill Prevention and Emergency Response Plan;

• Hazardous Materials and Waste Management Plan;

• Health and Safety Program;

• Groundwater Monitoring and Reporting Plan;

• Fire Management Plan;

• Lighting Management Plan;

• Integrated Weed Management Plan;

• Raven Management Plan;

• Site Rehabilitation and Restoration Plan;

• Stormwater Pollution Prevention Plan;

• Site Drainage Plan;

• Traffic Management Plan;

• Surface Water Quality Management Plan; and

• Worker Education and Awareness Plan.

(2) The lessee will comply with all relevant protective measures and design features established in the Approved Resource Management Plan Amendments/Record of Decision for Solar Development in Six Southwestern States (Solar Programmatic EIS) signed on Oct. 12, 2012, and Approved Resource Management Plan Amendments/Record of Decision for Renewable Arizona: Restoration Design Energy Project signed January 18, 2013.

(3) A Class III cultural survey will be required prior to any ground-disturbing activities. All historic properties found will be avoided or mitigated in consultation with State Historic Preservation Office.

(4) Any mitigation resulting from an adverse effect to historic properties will be addressed through a Memorandum of Agreement as outlined in the Solar Programmatic EIS Programmatic Agreement.

(5) Appropriate protection measures will be applied to existing improvements (e.g., canals and access to private lands) and rights-of-way within the SEZ and adjacent to other ancillary facilities (e.g., gen-tie line(s) and substation) required for development of any leased parcels.

(6) A 2-year grazing notification will be provided to all livestock permittees that will lose animal unit months to solar development, giving them 2 years to make any financial, business, or management decisions.

(7) The lessee will compensate the grazing permittees for any range improvements affected or lost by solar lease operations.

(8) The lessee will construct new fences that will continue to keep the allotments and pastures separated as needed to mitigate for the removal of allotment and pasture fences.

(9) Rights-of-way for livestock grazing driveways may be granted through solar lease parcels if requested by grazing permittees.

(10) Any POD submitted will address mitigation and compensation strategies for impacts to livestock grazing, and any agreement with the affected grazing permittee addressing these mitigation and compensation strategies will be submitted to the BLM concurrent with the POD prior to the BLM authorizing an NTP with construction.

(11) Following submission of a POD, BLM shall initiate project-specific consultation with the United States Fish and Wildlife Service under Section 7 of the Endangered Species Act. The outcome of this consultation may result in additional design considerations that the leaseholder would be required to incorporate into final project design, construction, and decommissioning plans.

(12) The developer will be required to coordinate and confirm any stream alteration or Section 404 permitting requirements through the appropriate state or federal agency with jurisdiction.

(Authority: 43 CFR 2809)

Raymond Suazo,
State Director.

[FR Doc. 2021-24021 Filed 11-3-21; 8:45 am]

BILLING CODE 4310-32-P